DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 26, 2009.

Interested persons are invited to submit written comments regarding the subject matter of the investigations to the Director, Division of Trade Adjustment Assistance, at the address shown below, not later than January 26, 2009.

The petitions filed in this case are available for inspection at the Office of the Director, Division of Trade Adjustment Assistance, Employment and Training Administration, U.S. Department of Labor, Room N-5428, 200 Constitution Avenue, NW., Washington, DC 20210.

Signed at Washington, DC, this 6th day of January 2009.
Linda G. Poole,
Certifying Officer, Division of Trade Adjustment Assistance.

Appendix
[TAA petitions instituted between 12/15/08 and 12/19/08]
TA-W | Subject firm (petitioners) | Location | Date of institution | Date of petition
64667 | Wichorus, Inc. (State) | San Jose, CA | 12/15/08 | 12/12/08
64668 | Tenneco (State) | Cozad, NE | 12/15/08 | 12/12/08
64669 | Century Chain Plant 3 (Wkrs) | Hickory, NC | 12/15/08 | 12/11/08
64670 | NXP Semiconductors (Comp) | Hopewell Junction, NY | 12/15/08 | 12/02/08
64671 | Ermico Enterprises, Inc. (Wkrs) | San Francisco, CA | 12/15/08 | 12/12/08
64672 | Alcan Packaging GTA (State) | Syracuse, NE | 12/15/08 | 12/12/08
64673 | Varsity Spirit Fashions & Supplies (Wkrs) | McLenoresville, TN | 12/15/08 | 12/11/08
64674 | Frito Lay (State) | Mission, TX | 12/15/08 | 12/12/08
64675 | Procter and Gamble Hair Care LLC (Comp) | Stamford, CT | 12/15/08 | 12/12/08
64676 | D.R. Johnson Lumber Company (Comp) | Riddle, OR | 12/15/08 | 12/12/08
64677 | Riddle Laminators (Comp) | Riddle, OR | 12/15/08 | 12/12/08
64678 | Alpha Stamping Company (Comp) | Livonia, MI | 12/15/08 | 12/11/08
64679 | Entertainment Distribution Company (USA), LLC (Wkrs) | Grover, NC | 12/15/08 | 12/11/08
64680 | Alex Products, Inc. (Wkrs) | Paulding, OH | 12/15/08 | 12/12/08
64681 | United State Steel—Granite City Works (USW) | Granite City, IL | 12/15/08 | 12/12/08
64682 | Vishay General Semiconductors (Comp) | Westbury, NY | 12/15/08 | 12/11/08
64683 | The Ascent Services Group (State) | Walnut Creek, CA | 12/15/08 | 12/02/08
64684 | Chrysler Transportation, LLC (UAW) | Detroit, MI | 12/15/08 | 12/12/08
64685 | Major Sportswear Corporation (Wkrs) | Corona, NY | 12/15/08 | 12/12/08
64686 | Cessna Aircraft (State) | Bend, OR | 12/16/08 | 12/15/08
64687 | Delaware Valley Financial Services (Wkrs) | Berwyn, PA | 12/16/08 | 12/12/08
64688 | Imerys (State) | Kimberly, WI | 12/16/08 | 12/10/08
64689 | V.I. Prewett and Sons, Inc. (State) | Fort Payne, AL | 12/16/08 | 12/15/08
64690 | Elixir Industries (Comp) | Vancouver, WA | 12/16/08 | 12/15/08
64691 | Bauhaus USA, Inc. (Comp) | Sherman, MS | 12/16/08 | 12/08/08
64692 | Aptara, Inc. (Comp) | Commerce, CA | 12/16/08 | 12/15/08
64693 | Avid Industries, Inc. (Comp) | Argyle, MI | 12/16/08 | 12/15/08
64694 | IQE, Inc. (Wkrs) | Bethlehem, PA | 12/16/08 | 12/12/08
64695 | Keith Manufacturing Company (State) | Madras, OR | 12/16/08 | 12/15/08
64696 | Emcon Technologies (UAW) | Dexter, MO | 12/16/08 | 12/15/08
64697 | Tower Automotive (Comp) | Traverse City, MI | 12/16/08 | 12/15/08
64698 | Feralloy Wheeling Specialty Processing Company (USW) | Wheeling, WV | 12/16/08 | 12/15/08
64699 | Kimrick, LP (State) | Ft Worth, TX | 12/16/08 | 12/11/08
64700 | WK Industries, Inc. (State) | Sterling Heights, MI | 12/16/08 | 12/11/08
64701 | Atmel Corporation (Wkrs) | Colorado Springs, CO | 12/16/08 | 12/03/08
64702 | DESA, LLC (Comp) | Bowling Green, KY | 12/16/08 | 12/12/08
64703 | 5R Processors, Ltd (Wkrs) | Ladysmith, WI | 12/17/08 | 12/11/08
64704 | Fostoria Industries, Inc. (Union) | Fostoria, OH | 12/17/08 | 12/16/08
64705 | Kentucky Derby Hosiery/Gildan Activewear (Comp) | Hillsville, VA | 12/17/08 | 12/16/08
64706 | Timber Products, Inc. (Wkrs) | White City, OR | 12/17/08 | 12/05/08
64707 | GMAC, LLC (Wkrs) | Auburn Hills, MI | 12/17/08 | 12/16/08
64708 | NuTec Tooling Systems, Inc. (Comp) | Meadville, PA | 12/17/08 | 12/16/08
64709 | SAFAS Corporation (Comp) | New Castle, PA | 12/17/08 | 12/16/08
64710 | Orchid International (Wkrs) | McAllen, TX | 12/17/08 | 12/16/08
64711 | Scott Brass, Inc. (IBT) | Cranston, RI | 12/17/08 | 12/16/08
64712 | Claymore Electronics (State) | Lawrenceville, GA | 12/17/08 | 12/15/08
64713 | Frontier Yarns, LLC (Comp) | Wetumpka, AL | 12/17/08 | 12/16/08
64714 | Globaltex, Inc. (Comp) | Mooresville, NC | 12/17/08 | 12/16/08
64715 | Cadence Innovation, LLC (Comp) | Troy, MI | 12/17/08 | 12/15/08
64716 | ABX Air, Inc. (Wkrs) | Erie, PA | 12/17/08 | 12/12/08
64717 | ABB Flexible Automation/Rebuild Dept. (Wkrs) | Auburn Hills, MI | 12/17/08 | 12/12/08
64718 | TAC Automotive (Wkrs) | Flint, MI | 12/17/08 | 12/15/08
64719 | Shorewood Packaging (Wkrs) | Springfield, OR | 12/17/08 | 12/11/08
64720 | Hubbell Lenoir City, Inc. (Wkrs) | San Jose, CA | 12/17/08 | 12/15/08
64721 | Hewlett-Packard, Imaging & Printing Group (Comp) | San Diego, CA | 12/18/08 | 12/03/08
64722 | International Electronics, Inc. (Comp) | Canton, MA | 12/18/08 | 12/12/08
64723 | Thomasville Furniture Industries, Inc. (Comp) | Lenoir, NC | 12/18/08 | 12/17/08
64724 | Danaher Motion (Pac Sci Motion Control, Inc.) (Comp) | Rockford, IL | 12/18/08 | 12/17/08
64725 | Weather Shield (Wkrs) | Medford, WI | 12/18/08 | 12/17/08
64726 | SurgRx, Inc. (Rep) | Redwood City, CA | 12/18/08 | 12/13/08
64727 | Printer Components, Inc. (Comp) | Victor, NY | 12/18/08 | 12/17/08
64728 | Meubles Villagenis (Wkrs) | Malone, NY | 12/18/08 | 12/17/08
64729 | Forster Textile Mills, Inc. (Comp) | Maxton, NC | 12/18/08 | 12/17/08
64730 | Conner Avenue Assembly Plant (UAW) | Detroit, MI | 12/18/08 | 12/16/08
64731 | Mt. Elliott Tool and Die (UAW) | Detroit, MI | 12/18/08 | 12/16/08
64732 | Sun Chemical—North American Ink (Union) | Cheektowaga, NY | 12/18/08 | 12/17/08
64733 | Modine Manufacturing (Comp) | Lawrenceburg, TN | 12/18/08 | 12/17/08
64734 | ACE Packaging Systems (Comp) | Newport, MI | 12/18/08 | 12/17/08
64734A | ACE Packaging Systems (Comp) | Brownstown, MI | 12/18/08 | 12/17/08
64735 | Rockwell Collins/Miami Service Base (Wkrs) | Miami, FL | 12/18/08 | 12/05/08
64736 | True Textiles, Inc. (Wkrs) | Guilford, ME | 12/18/08 | 12/15/08
64737 | Stillwater Mining Company (Comp) | Billings, MT | 12/18/08 | 12/04/08
64738 | Flextronics (Wkrs) | Westwood, MA | 12/18/08 | 12/08/08
64739 | Freightliner, LLC (Comp) | Mt. Holly, NC | 12/18/08 | 11/24/08
64740 | LSP Products Group (State) | Carson City, NV | 12/19/08 | 12/18/08
64741 | 3M Cuno (State) | Enfield, CT | 12/19/08 | 12/18/08
64742 | American Axle & Manufacturing (State) | Detroit, MI | 12/19/08 | 12/16/08
64743 | Alcoa, Inc.—West Plant (Comp) | Massena, NY | 12/19/08 | 12/18/08
64744 | Alcoa, Inc.—East Plant (Comp) | Massena, NY | 12/19/08 | 12/18/08
64745 | HDM Henredon Furniture Industries (Comp) | Marion, NC | 12/19/08 | 12/18/08
64746 | HDM Furniture Industries/Drexel Heritage Plant #60 (Comp) | Morganton, NC | 12/19/08 | 12/18/08
64747 | Fasco Motors (Wkrs) | Eldon, MO | 12/19/08 | 12/17/08
64748 | Timber Products (Wkrs) | White City, OR | 12/19/08 | 12/17/08
64749 | Lane Furniture Industries (Comp) | Saltillo, MS | 12/19/08 | 12/17/08
64750 | Bush Industries (Comp) | Erie, PA | 12/19/08 | 12/18/08
64751 | Leon Map, Inc. (Wkrs) | Pasadena, CA | 12/19/08 | 12/16/08

[FR Doc. E9-638 Filed 1-13-09; 8:45 am]

BILLING CODE 4510-FN-P